SOCIAL SECURITY ADMINISTRATION

[Docket No. SSA-2013-0054]

Open Government: Use of Genetic Information in Documenting and Evaluating Disability

AGENCY: Social Security Administration.

ACTION: Notice of open government forum.

SUMMARY: We will host an online open government comment forum about the use of genetic information in the disability determination process. The forum is open to all members of the public during the dates listed below.

DATES: The forum will be open for your ideas and comments until December 26, 2013.

FOR FURTHER INFORMATION CONTACT: Cheryl A. Williams, Office of Medical Listings Improvement, Social Security Administration, 6401 Security Boulevard, Baltimore, Maryland 21235-6401, (410) 965-1020. For information on eligibility or filing for benefits, call our national toll-free number, 1-800-772-1213, or TTY 1-800-325-0778, or visit our Internet site, Social Security Online, at http://www.socialsecurity.gov.

SUPPLEMENTARY INFORMATION: Under our current, long-standing policy, we do not purchase genetic testing to evaluate disability. However, we do consider all evidence in the record, including genetic testing and other genetic medical evidence, when we make a determination or decision of whether you are disabled.¹ We are requesting information regarding how we should consider genetic information in the disability decision process and what issues we should consider.

¹ 20 CFR 404.1512-404.1513, 404.1520, 416.912-416.913, and 416.920.

How To Participate

To submit your ideas and comments, please go to http://www.ssa-disabilityideas.ideascale.com and go to the Campaign entitled “Genetic Information”. You must register at the site before you are able to submit your ideas and comments. Although we will consider all of the ideas and comments we receive, we will not respond to them. Since we will moderate the ideas and comments we receive during regular business hours, your ideas and comments may not be viewable immediately. In most cases, your ideas and comments should be viewable within two business days.

Include only information that you wish to make publicly available. Please do not include any personal information, such as Social Security numbers or medical information.

Dated: November 19, 2013.
Arthur R. Spencer,
Associate Commissioner, Office of Disability Programs.

[FR Doc. 2013-28314 Filed 11-25-13; 8:45 am]

BILLING CODE 4191-02-P